DEPARTMENT OF LABOR

Employment and Training Administration

[TA-W-70,491]

Sipco, Inc., Meadville, PA; Notice of Termination of Investigation

Pursuant to Section 223 of the Trade Act of 1974, as amended, an investigation was initiated on May 22, 2009 in response to a worker petition filed on behalf of workers of Sipco, Inc., Meadville, Pennsylvania.

The petitioner has requested that the petition be withdrawn. Consequently, the investigation has been terminated.

Signed in Washington, DC, this 19th day of August 2009.
Richard Church,
Certifying Officer, Division of Trade Adjustment Assistance.

[FR Doc. E9-29160 Filed 12-7-09; 8:45 am]

BILLING CODE 4510-FN-P